DEPARTMENT OF ENERGY

Federal Energy Regulatory Commission

[Docket No. CP15-537-000]

DBM Pipeline, LLC; Notice of Staff Protest to Proposed Blanket Certificate Activity

Commission staff (Protestor) hereby protests the prior notice request filed under the provisions of part 157, subpart F, of the Commission's regulations, by DBM Pipeline, LLC (DBM Pipeline) on July 27, 2015 in the above referenced docket. Pursuant to its part 157, subpart F, blanket certificate authority, DBM Pipeline proposes to construction and operate approximately 9 miles of 20-inch-diameter pipeline in Reeves and Culberson Counties, Texas, and Eddy County, New Mexico. Protestor seeks to have this prior notice request processed as a case-specific application filed under section 7(c) of the Natural Gas Act and part 157, subpart A, of the Commission's regulations.¹

¹ Section 157.205(f) provides that a protested prior notice filing shall be treated as though it had filed a case-specific application under National Gas Act section 7, unless, pursuant to section 157.205(g) the protestor withdraws its protest within 30 days after protests were due.

Protestor notes that on September 28, 2015, DBM Pipeline filed a data response which described a mitigation plan instead of an avoidance plan for historic properties. Mitigation plans do not comply with the National Historic Preservation Act under the Commission's regulations for blanket projects. DBM Pipeline must file with the Commission construction plan to avoid historic properties (exceed 25 feet from any of the historic properties). In addition, DBM Pipeline must file with the FERC complete responses to the FERC Environmental Data Request dated September 23, 2015.

Without this information, environmental concerns cannot be adequately addressed within the 30 day period after the protest deadline.

Dated: October 2, 2015.
Kimberly D. Bose,
Secretary.

[FR Doc. 2015-25634 Filed 10-7-15; 8:45 am]

BILLING CODE 6717-01-P